DEPARTMENT OF THE INTERIOR

Fish and Wildlife Service

Emergency Exemption: Issuance; Endangered Species

On March 6, 2002, the U.S. Fish and Wildlife Service (Service) issued a permit (PRT-053151) to the Centers for Disease Control/National Center for Infectious Diseases, Atlanta, Georgia, to import biological samples collected post-mortem from one captive-born female Sumatran orangutan (Pongo pygmaeus abelii), and two male and one female captive-held/captive-born Bornean orangutan (Pongo pygmaeus pygmaeus) from the Singapore Zoological Gardens, Singapore. The 30-day comment period required by Section 10(c) of the Endangered Species Act was waived. The Service determined that an emergency affecting the health and life of the remaining Singapore Zoo population of 26 orangutans existed, and that no reasonable alternative was available to the applicant for several reasons.

The Centers for Disease Control (CDC) received a request from the Agricultural and Veterinary Authority of Singapore for assistance in determining the cause of death of two Bornean orangutans that died unexpectedly at the Singapore Zoological Gardens on January 20th and 21st, 2002. The request asked for assistance in determining whether the cause of death of these specimens was infectious in nature. The Singapore Authorities wanted to rule out two possible viral infections, Coxsackievirus B and encephalomyelitis virus (EMCV). They do not have the capability to conduct these same tests in Singapore. The Singapore Zoo also experienced two deaths of orangutans at their facility prior to the recent loss of these specimens. Tissue samples from all four specimens are being imported to determine whether the cause of death may be from the same disease vector.

The U.S. Fish and Wildlife Service has information collection approval from OMB through March 31, 2004, OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203, telephone 703/358-2104 or fax 703/358-2281.

Dated: March 15, 2002.
Timothy J. Van Norman,
Chief, Branch of Permits (International), Division of Management Authority.

[FR Doc. 02-7314 Filed 3-26-02; 8:45 am]

BILLING CODE 4310-55-P